DEPARTMENT OF VETERANS AFFAIRS

Voluntary Service National Advisory Committee; Intent To Reestablish

AGENCY: Department of Veterans Affairs.

ACTION: Notice of intent.

SUMMARY: We are giving notice that the Secretary of Veterans Affairs intends to reestablish the Department of Veterans Affairs Voluntary Service National Advisory Committee for a 2-year period. The Secretary has determined that the Committee is necessary and in the public interest.

FOR FURTHER INFORMATION CONTACT: Jeffrey Moragne, Committee Management Office, Department of Veterans Affairs, Advisory Committee Management Office (00AC), 810 Vermont Avenue NW, Washington, DC 20420; telephone (202) 266-4660; or email at Jeffrey.Moragne@va.gov.

SUPPLEMENTARY INFORMATION: Pursuant to the Federal Advisory Committee ACT, notice is hereby given that the Secretary of Veterans Affairs intends to reestablish the Department of Veterans Affairs Voluntary Service National Advisory Committee for 2 years from the filing date of the charter's reestablishment.

The Committee advises the Secretary on the coordination and promotion of volunteer activities and strategic partnership within VA health care facilities, in the community, and on other matters related to volunteerism and charitable giving. The Committee serves in an advisory capacity by making recommendations to the Secretary for the improvement of voluntary services to Veteran-patients by means of coordination on a national level of the established plans and policies for community volunteer participation.

Dated: February 14, 2019.
Jelessa M. Burney,
Federal Advisory Committee Management Officer.

[FR Doc. 2019-02750 Filed 2-19-19; 8:45 am]

BILLING CODE P